CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paper Reduction Act of 1995, Pub. L. 104-13 (44 U.S.C. Chapter 35). Copies of this ICR, with applicable supporting documentation, may be obtained by calling the Corporation for National and Community Service, Levon Buller, at (202) 606-5000, extension 383. Individuals who use a telecommunications device for the deaf (TTY-TDD) may call (800) 833-3722 between the hours of 9 a.m. and 5 p.m. Eastern Standard Time, Monday through Friday.

Comments should be sent to the Office of Information and Regulatory Affairs, Attn: Ms. Brenda Aguilar, OMB Desk Officer for the Corporation for National and Community Service, Office of Management and Budget, Room 10235, Washington, DC, 20503, (202) 395-7316, within 30 days from the date of publication in this Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

An ICR document has been submitted to OMB for consideration. The Voucher and Payment Request Form (OMB Number 3045-0030) is a proposed revision to an earlier OMB-approved form. This is the document by which AmeriCorps members access the education awards that they have earned by serving in a national service position.

The document was published in the Federal Register on January 5, 2001, for a 60-day pre-clearance public comment period. Two organizations requested copies of the document; one represented a financial aid office at a university and the other represented a loan servicing organization. Only the university presented comments on the form. One of the suggestions was incorporated into the versions now being presented to OMB for consideration. The other suggestion was not included mainly due to space considerations and the Corporation's belief that the information was asked for in another form.

Voucher and Payment Request Form

Type of Review: Renewal.

Agency: Corporation for National and Community Service.

Title: Voucher and Payment Request Form.

OMB Number: OMB #3045-0014.

Agency Number: None.

Affected Public: AmeriCorps members who have completed a term of national service and who wish to access their education awards.

Total Respondents: 55,000 responses annually (estimated annual average over the next three years).

Frequency: Experience has shown that some AmeriCorps members may never use the education award and others will use it several times a year.

Average Time Per Response: Total of 5 minutes (one half minute for the AmeriCorps member's section and 4½ minutes for the school or lender's section).

Estimated Total Burden Hours: 4,583 hours.

Total Burden Cost (capital/startup): N/A.

Total Burden Cost (operating/maintenance): N/A.

Description: After an AmeriCorps member completes a period of national service, the individual receives an education award that can be used to pay against qualified student loans or pay for current educational expenses at a post secondary educational institution. The Voucher and Payment Request Form is the document that members use to access their accounts in the National Service Trust.

The form serves three purposes: (1) The AmeriCorps member uses it to request and authorize a specific payment to be made from his or her education award account, (2) the school or loan company uses it to indicate the amount for which the individual is eligible, and (3) the school or loan company and member both certify that the payment meets various legislative requirements. When the Corporation receives a voucher, the form is processed. If everything is in order, the Corporation requests the U.S. Treasury to issue a check on behalf of the member to the school or loan holder.

The form was first designed and some variation of it has been in use since the summer of 1994. The proposed revisions are being made to clarify certain sections of the existing form and to facilitate the electronic processing of the form. Currently, all of the information from the form is entered into the Corporation's database by hand. Automating a portion of this process should greatly reduce both the processing time and the incidence of payment errors. Currently, all payments are being made by paper checks issued by the U.S. Treasury. Before the end of calendar year 2001, the Corporation intends to begin making these payments through Electronic Funds Transfer (EFT).

The form shows that payment will be made through EFT if the Corporation already has the information to make such a transaction. If it does not, a paper check will be issued. Then, a letter will be mailed to the institution asking them to complete an enclosed Direct Deposit form so future payments can be made electronically.

Analysis of Comments Received During the Public Comment Period

Two comments were received from a university's financial aid office. One suggestion was to allow the AmeriCorps member to indicate whether the payment request was for a loan payment or for the payment of current educational expenses. Frequently, a financial aid office will process both types of requests; this modification will clarify the member's intent. The second suggestion was to include an item where the school can indicate the school enrollment period upon which the member's “eligible” amount is based (for example, Spring '02, Summer '04). Since the form already does ask for the beginning and ending dates of the enrollment period the Corporation feels that this is sufficient.

Dated: April 18, 2001.
Charlene Dunn,
Director, National Service Trust.

[FR Doc. 01-10223 Filed 4-24-01; 8:45 am]

BILLING CODE 6050-$$-P